DEPARTMENT OF COMMERCE

United States Patent and Trademark Office

National Telecommunications and Information Administration

[Docket No.: PTO-C-2017-0053]

Notice of Public Meeting on Developing the Digital Marketplace for Copyrighted Works

AGENCY: United States Patent and Trademark Office, U.S. Department of Commerce; National Telecommunications and Information Administration, U.S. Department of Commerce.

ACTION: Notice of public meeting.

SUMMARY: The Department of Commerce's internet Policy Task Force (Task Force) will hold a conference at the United States Patent and Trademark Office (USPTO) facility in Alexandria, Virginia, on January 25, 2018, to discuss current initiatives and technologies used to develop a more robust and collaborative digital marketplace for copyrighted works. This follows up on three earlier public meetings held by the Task Force: On December 12, 2013, which included panels focusing on access to rights information and online licensing transactions; on April 1, 2015, which focused on how the Government can assist in facilitating the development and use of standard identifiers for all types of works of authorship; and on December 9, 2016, which was designed to facilitate constructive, cross-industry dialogue among stakeholders about ways to promote a more robust and collaborative online marketplace for copyrighted works.

DATES: The public meeting will be held on January 25, 2018, from 9:00 a.m. to 5:00 p.m., Eastern Standard Time. Registration will begin at 8:30 a.m.

ADDRESSES: The public meeting will be held at the United States Patent and Trademark Office in the Madison Auditorium, which is located at 600 Dulany Street, Alexandria, Virginia 22314. All major entrances to the building are accessible to people with disabilities. In addition, the meeting will be webcast for public viewing, including at the following USPTO Regional Offices: The Midwest Regional Office, 300 River Place Drive, Suite 2900, Detroit, Michigan 48207; the Rocky Mountain Regional Office, 1961 Stout Street, Denver, Colorado 80294; and the Silicon Valley Regional Office, 26 S. Fourth Street, San Jose, California 95113.

FOR FURTHER INFORMATION CONTACT: For further information regarding the meeting, contact Hollis Robinson or Susan Allen, Office of Policy and International Affairs, USPTO, Madison Building, 600 Dulany Street, Alexandria, Virginia 22314; telephone (571) 272-9300; email Hollis.Robinson@uspto.gov or Susan.Allen@uspto.gov. Please direct all media inquiries to the Office of the Chief Communications Officer, USPTO, at (571) 272-8400.

SUPPLEMENTARY INFORMATION:

Ongoing Government Engagement Relating to Copyright in the Digital Economy

The Department of Commerce established the internet Policy Task Force (Task Force) in 2010 to identify leading public policy and operational issues impacting the U.S. private sector's ability to realize the potential for economic growth and job creation through the internet. The Task Force's July 2013 report, Copyright Policy, Creativity, and Innovation in the Digital Economy (Green Paper),¹ was the product of extensive public consultations led by the United States Patent and Trademark Office (USPTO) and the National Telecommunications and Information Administration (NTIA).

¹ The Green Paper is available at http://www.uspto.gov/sites/default/files/news/publications/copyrightgreenpaper.pdf.

The Green Paper devoted a chapter to “ensuring an efficient online marketplace.” It looked at some of the then-current examples of legal licensing options and noted some impediments to licensing for online distribution. These included: The complexity of licensing in the online environment, in particular in the music licensing space; challenges with mapping old contracts to new uses; and licensing across borders.

In October 2013, the USPTO and NTIA published a request for public comments relating to three areas of work flowing out of the Green Paper, including whether and how the Government can facilitate the further development of a robust online licensing environment.² The request for comments noted that building the online marketplace is fundamentally a function of the private sector and described how that process has been progressing. It noted the Green Paper's conclusion that, while much progress had been made in the licensing of creative content for online uses, there remained a need for more comprehensive and reliable ownership data, interoperable standards enabling communication among databases, and more streamlined licensing mechanisms. It posed a number of questions regarding access to and standardization of rights ownership information, facilitating the effectiveness of the online marketplace, and the role of the Government in such matters.

² Request for Comments on Department of Commerce Green Paper, Copyright Policy, Creativity, and Innovation in the Digital Economy, 78 FR 61337-61341, available at https://www.ntia.doc.gov/files/ntia/publications/ntia_pto_rfc_10032013.pdf.

At a subsequent public meeting in December 2013, two panels addressed issues related to this topic: Access to rights information and online licensing transactions. An archive of the webcast and transcript of the public meeting is available at https://www.uspto.gov/learning-and-resources/ip-policy/copyright/public-meeting-copyright-policy-creativity-and-innovation. Copies of the comments received are available at https://www.uspto.gov/learning-and-resources/ip-policy/copyright/public-comments-green-paper.

In April 2015, the Task Force held another public meeting to discuss: The potential for the enhanced use and interoperability of standard identifiers across different sectors and geographical borders; whether the United States should develop or participate in an online licensing platform such as the U.K.'s Copyright Hub; and what the role of the Government should be in furthering any of these efforts. A transcript and videos of the public meeting are available at http://www.uspto.gov/learning-and-resources/ip-policy/copyright/facilitating-development-online-licensing-environment.

In December 2016, the Task Force convened stakeholders in another public meeting to discuss current initiatives and technologies used to develop a more robust and collaborative digital marketplace for copyrighted works. The meeting focused on initiatives in this space that relate to standards development, interoperability across digital registries, and cross-industry collaboration, to understand the current state of affairs, identify challenges, and discuss paths forward. It also provided an opportunity to explore potential approaches to the future adoption and integration of relevant emerging technologies into the online marketplace, such as blockchain technology and open-source platforms. The goal was to provide a platform for discussion and to determine in what ways government can be of assistance. The meeting included panel sessions in the morning, an exhibition hall to showcase initiatives during lunchtime, and breakout sessions and a plenary discussion in the afternoon. A transcript and videos of the public meeting are available at: https://www.uspto.gov/learning-and-resources/ip-policy/public-meeting-developing-digital-marketplace-copyrighted-works-dec.

Finally, the internet Policy Task Force notes that the United States Copyright Office, in terms of its administration of the Copyright Act via registration and recordation as well as through its law and policy work, is involved in several initiatives that may inform this January event. The Copyright Office is actively engaged in a number of public processes, such as: Modernizing its information technology to improve registration and recordation; ³ reengineering its document recordation system; continuing its multiyear project to make historical copyright records created between 1860 and 1977 accessible online; producing studies that address issues affecting online licensing such as Copyright and the Music Marketplace ⁴ and Transforming Document Recordation; ⁵ and developing regulations, including those on registration and recordation practices, that improve the current system and will pave the way to support a modernized IT infrastructure.⁶

³ U.S. Copyright Office, Modified U.S. Copyright Office Provisional IT Modernization Plan: Analysis of Shared Services, Support Requirements, and Modernization Efforts (2017), at https://www.copyright.gov/reports/itplan/modified-modernization-plan.pdf.

⁴ U.S. Copyright Office, Copyright and the Music Marketplace (2015), at https://www.copyright.gov/policy/musiclicensingstudy/copyright-and-the-music-marketplace.pdf.

⁵ U.S. Copyright Office, Transforming Document Recordation at the United States Copyright Office (2015), at https://www.copyright.gov/docs/recordation/recordation-report.pdf.

⁶ See U.S. Copyright Office's web page on rulemakings at https://www.copyright.gov/rulemaking/.

The Focus of This Meeting

In the previous public comments and meetings, the Task Force heard from stakeholders that the government can play a useful role by facilitating dialogues between and among industry sectors and by convening stakeholder groups to make recommendations on specific issues. Based on this feedback, the Task Force is organizing this meeting to build on the work of the December 2016 meeting and facilitate constructive, cross-industry dialogue among stakeholders about ways to promote a more robust and collaborative online marketplace for copyrighted works. We will discuss the potential for interoperability across digital registries and standards work in this field, and consider how the relevant emerging technologies (e.g., blockchain technology, open source platforms) are developing. We will also explore potential approaches to guide their future adoption and integration into the online marketplace.

Topics to be covered will include: (1) Initiatives to advance the digital content marketplace, with a focus on standards, interoperability, and digital registries and database initiatives to track ownership and usage rights; (2) innovative technologies designed to improve the ways consumers access and use different types of digital content (e.g., photos, film, music); (3) ways that different sectors can collaborate to promote a robust and interconnected digital content marketplace; and (4) the role of government in facilitating such initiatives and technological development. Members of the public will have opportunities to participate at the meeting.

Public Meeting

On January 25, 2018, the Task Force will hold a public meeting to hear stakeholder input and to consider future work in this area. The event will seek participation and comments from interested stakeholders, including creators, right holders, and online services that produce and distribute copyright protected digital content, as well as technologists, cultural heritage institutions, public interest groups, and academics.

The meeting will be webcast. The agenda and webcast information will be available no later than the week prior to the meeting on the internet Policy Task Force website, at http://www.ntia.doc.gov/internetpolicytaskforce, and the USPTO's website at https://www.uspto.gov/learning-and-resources/ip-policy/copyright/developing-digital-marketplace-copyrighted-works-second.

The meeting will be open to members of the public to attend, space permitting, on a first-come, first-served basis. Online registration for the meeting, which is not mandatory, is available at https://www.uspto.gov/learning-and-resources/ip-policy/copyright/developing-digital-marketplace-copyrighted-works-second. The meeting will be physically accessible to people with disabilities. Individuals requiring accommodation, such as sign language interpretation, real-time captioning of the webcast or other ancillary aids, should communicate their needs to Hollis Robinson, Office of Policy and International Affairs, United States Patent and Trademark Office, Madison Building, 600 Dulany Street, Alexandria, Virginia 22314; telephone (571) 272-9300; email Hollis.Robinson@USPTO.gov, at least seven business days prior to the meeting. Attendees should arrive at least one-half hour prior to the start of the meeting and must present a valid government-issued photo identification upon arrival. Persons who have pre-registered (and received confirmation) will have seating held until 15 minutes before the program begins.

Dated: December 19, 2017.
Joseph Matal,
Performing the functions and duties of the Under Secretary of Commerce for Intellectual Property and Director of the United States Patent and Trademark Office.
David J. Redl,
Assistant Secretary for Communications and Information, National Telecommunications and Information Administration.

[FR Doc. 2017-27651 Filed 12-21-17; 8:45 am]

BILLING CODE 3510-16-P